Title 3—

The President

Proclamation 7950 of October 20, 2005

United Nations Day, 2005

By the President of the United States of America

A Proclamation

Sixty years ago, the United Nations was created to spread hope and liberty, fight poverty and disease, and help secure human rights and human dignity for people everywhere. On United Nations Day, we recommit ourselves to the ideals on which this organization was founded.

Throughout history, the human spirit has been tested by the forces of darkness and evil. Since its founding in the aftermath of World War II, the United Nations has worked to solve problems and harness the best instincts of humankind. Today, we must continue efforts to ease suffering, spread freedom, and lay the foundations of lasting peace for our children and grandchildren.

In the aftermath of last year's tsunami in the Indian Ocean region and this month's earthquakes in South Asia, we have witnessed the great capacity of human compassion. The support from the United Nations demonstrated how nations of the world can unite in common purpose to address difficult challenges. This enduring truth inspired those who created the United Nations, and it continues to do so 60 years later. With courage and conscience, we will meet our responsibilities to protect the lives and rights of others. As we do this, we will help fulfill the great promise of the United Nations, ensuring that all people can enjoy the peace, freedom, and dignity our Creator intended.

NOW, THEREFORE, I, GEORGE W. BUSH, President of the United States of America, by virtue of the authority vested in me by the Constitution and laws of the United States, do hereby proclaim October 24, 2005, as United Nations Day. I urge the Governors of the 50 States, the Governor of the Commonwealth of Puerto Rico, and the officials of other areas under the flag of the United States to honor the observance of United Nations Day with appropriate ceremonies and activities.

IN WITNESS WHEREOF, I have hereunto set my hand this twentieth day of October, in the year of our Lord two thousand five, and of the Independence of the United States of America the two hundred and thirtieth.

B

[FR Doc. 05-21354

Filed 10-21-05; 11:28 am]

Billing code 3195-01-P